FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 17271F.

Name: A.S.L. Logistics Corp.

Address: 11613 NW 51st Lane, Miami, FL 33178.

Date Revoked: August 15, 2003.

Reason: Failed to maintain a valid bond.

License Number: 4269F.

Name: Cargo Systems Worldwide, Inc.

Address: P.O. Box 2226, San Juan, PR 00902.

Date Revoked: October 22, 2002.

Reason: Surrendered license voluntarily.

License Number: 17126F.

Name: Daily Freight Cargo, Corp.

Address: 8426 NW 70th Street, Miami, FL 33166.

Date Revoked: December 8, 2002.

Reason: Failed to maintain a valid bond.

License Number: 3864N.

Name: Fredonia, Inc. dba Fredonia Cargo Lines.

Address: 478 Pennsylvania Avenue, Suite 301, Glen Ellyn, IL 60137.

Date Revoked: July 21, 2003.

Reason: Failed to maintain a valid bond.

License Number: 4478N.

Name: Marina Ocean Air International, LLC.

Address: 811 Grandview Drive, South San Francisco, CA 94083.

Date Revoked: July 23, 2003.

Reason: Failed to maintain a valid bond.

License Number: 16730F.

Name: New World Import Services, Inc.

Address: 1650 NW 94th Avenue, Miami, FL 33172.

Date Revoked: August 8, 2003.

Reason: Failed to maintain a valid bond.

License Number: 16561F.

Name: Palumbo USA Inc.

Address: 1099 Wall Street West, Suite 395, Lynhurst, NJ 07071.

Date Revoked: May 31, 2002.

Reason: Surrendered license voluntarily.

License Number: 245F.

Name: Pan-American Shipping Company.

Address: 3017 Bradbury Drive, P.O. Box 120, Meraux, LA 70075.

Date Revoked: August 8, 2003.

Reason: Failed to maintain a valid bond.

License Number: 13398N.

Name: Patriot Container Lines, Inc.

Address: 225 Prospect Street, Hartford, CT 06108.

Date Revoked: August 2, 2003.

Reason: Failed to maintain a valid bond.

License Number: 16312N.

Name: Schroff International Transport, Inc.

Address: Bldg. C2NW A.I.O.P., Hook Creek Blvd & 145th Ave, Valley

Stream, NY 11581.

Date Revoked: August 10, 2003.

Reason: Failed to maintain a valid bond.

License Number: 17320N and 17320F.

Name: Tiger Distribution Corporation.

Address: 2180 Crescent Avenue, Suite C, Anaheim, CA 92801.

Date Revoked: June 28, 2003 and July 29, 2003.

Reason: Failed to maintain valid bonds.

License Number: 9862N.

Name: United Transport Tankcontainers, Inc.

Address: 1225 North Loop West, Suite 1110, Houston, TX 77008.

Date Revoked: August 6, 2003.

Reason: Failed to maintain a vaid bond.

Sandra L. Kusumoto,
Director, Bureau of Consumer Complaints and Licensing.

[FR Doc. 03-22557 Filed 9-3-03; 8:45 am]

BILLING CODE 6730-01-P